DEPARTMENT OF COMMERCE

International Trade Administration

[A-570-904]

Certain Activated Carbon From the People's Republic of China: Notice of Initiation and Preliminary Results of Antidumping Duty Changed Circumstances Review

AGENCY: Enforcement and Compliance, International Trade Administration, Department of Commerce.

SUMMARY: The Department of Commerce (Commerce) is initiating a changed circumstances review (CCR) of the antidumping duty (AD) order on certain activated carbon (activated carbon) from the People's Republic of China (China). Further, Commerce preliminarily determines that Ningxia Huahui Environmental Technology Co., Ltd. (Huahui Environmental) is the successor-in-interest to Ningxia Huahui Activated Carbon Co., Ltd. (Ningxia Huahui), and should be assigned the same AD cash deposit rate for purposes of determining AD liability on activated carbon from China. Interested parties are invited to comment on these preliminary results.

DATES: Applicable October 8, 2021.

FOR FURTHER INFORMATION CONTACT: Jinny Ahn, AD/CVD Operations, Office VIII, Enforcement and Compliance, International Trade Administration, Department of Commerce, 1401 Constitution Avenue NW, Washington, DC 20230; telephone: (202) 482-0339.

SUPPLEMENTARY INFORMATION:

Background

On April 27, 2007, Commerce published the AD order on activated carbon from China, which included Ningxia Huahui.¹ Pursuant to the Order, Commerce assigned Ningxia Huahui an AD cash deposit rate, of 67.14 percent, based on the non-selected respondent rate.² In the most recently completed administrative review covering the period April 1, 2018, through March 31, 2019, we assigned Ningxia Huahui a separate rate, as a non-individually examined exporter under review.³

¹ See Notice of Antidumping Duty Order: Certain Activated Carbon from the People's Republic of China, 72 FR 20988 (April 27, 2007) (Order).

² See Order, 72 FR at 20990.

³ See Certain Activated Carbon from the People's Republic of China: Final Results of Antidumping Duty Administrative Review, Final Determination of No Shipments, and Final Rescission of Administrative Review, in Part; 2018-2019, 86 FR 10539 (February 22, 2021).

On August 20, 2021, Huahui Environmental requested that Commerce conduct a CCR of the Order to confirm that “Ningxia Huahui Environmental Technology Co., Ltd.” is the successor-in-interest to Ningxia Huahui and that it be subject to Ningxia Huahui's AD margin for activated carbon from China.⁴ No interested parties filed comments opposing the CCR request.

⁴ See Ningxia Huahui's Letter, “Activated Carbon from the People's Republic of China—Ningxia Huahui Changed Circumstances Review,” dated August 20, 2021 (CCR Request).

Scope of the Order

The merchandise covered by the scope of this order is activated carbon. For a complete description of the scope of the Order, see the Preliminary Decision Memorandum.⁵

⁵ See Memorandum, “Decision Memorandum for the Initiation and Preliminary Results of the Changed Circumstances Review of the Antidumping Duty Order on Certain Activated Carbon from the People's Republic of China,” dated concurrently with, and hereby adopted by, this notice (Preliminary Decision Memorandum).

Methodology

We are conducting this CCR in accordance with section 751(b)(1) of the Tariff Act of 1930, as amended (the Act), and 19 CFR 351.216. For a full description of the methodology underlying our preliminary conclusions, see the Preliminary Decision Memorandum. A list of the topics discussed in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at http://enforcement.trade.gov/frn/.

Initiation and Preliminary Results of CCR

Pursuant to section 751(b)(1) of the Act, and 19 CFR 351.216, Commerce will conduct a CCR upon receipt of information concerning, or a request from an interested party for a review of, an AD order which shows changed circumstances sufficient to warrant a review of the order. The information submitted by Huahui Environmental supporting its claim that Huahui Environmental should be treated as the successor-in-interest to Ningxia Huahui, demonstrates changed circumstances sufficient to warrant such a review.⁶ Therefore, in accordance with 751(b)(1)(A) of the Act and 19 CFR 351.216(d), we are initiating a CCR based on the information contained in the CCR request.

⁶ See 19 CFR 351.216(d).

Pursuant to 19 CFR 351.221(c)(3)(ii), Commerce can combine the notice of initiation of a CCR and the notice of preliminary results of a CCR into a single notice if Commerce concludes that expedited action is warranted. In this instance, because the record contains the information necessary to make a preliminary finding, we find that expedited action is warranted and have combined the notice of initiation and the notice of preliminary results.⁷ In this CCR, pursuant to section 751(b) of the Act, Commerce conducted a successor-in-interest analysis. In making a successor-in-interest determination, Commerce examines several factors, including, but not limited to, changes in the following: (1) Management; (2) production facilities; (3) supplier relationships; and (4) customer base.⁸ While no single factor or combination of factors will necessarily provide a dispositive indication of a successor-in-interest relationship, generally, Commerce will consider the new company to be the successor to the previous company if the new company's resulting operation is not materially dissimilar to that of its predecessor.⁹ Thus, if the record evidence demonstrates that, with respect to the production and sale of the subject merchandise, the new company operates as the same business entity as the predecessor company, Commerce may assign the new company the cash deposit rate of its predecessor.¹⁰

⁷ See 19 CFR 351.221(c)(3)(ii); see also, e.g., Notice of Initiation and Preliminary Results of Changed Circumstances Reviews: Certain Passenger Vehicle and Light Truck Tires from the People's Republic of China, 85 FR 5193 (January 29, 2020), unchanged in Certain Passenger Vehicle and Light Truck Tires from the People's Republic of China: Final Results of Changed Circumstances Reviews, 85 FR 14638 (March 13, 2020).

⁸ See, e.g., Certain Frozen Warmwater Shrimp from India: Initiation and Preliminary Results of Antidumping Duty Changed Circumstances Review, 81 FR 75376 (October 31, 2016) (Shrimp from India Preliminary Results), unchanged in Certain Frozen Warmwater Shrimp from India: Notice of Final Results of Antidumping Duty Changed Circumstances Review, 81 FR 90774 (December 15, 2016) (Shrimp from India Final Results).

⁹ See, e.g., Shrimp from India Preliminary Results, 81 FR at 75377, unchanged in Shrimp from India Final Results, 81 FR at 90774.

¹⁰ Id.

We preliminarily determine that Huahui Environmental is the successor-in-interest to Ningxia Huahui. Record evidence, as submitted by Huahui Environmental, indicates that Huahui Environmental operates as essentially the same business entity as Ningxia Huahui with respect to the subject merchandise.¹¹ For the complete successor-in-interest analysis, see the Preliminary Decision Memorandum.

¹¹ See CCR Request.

Should our final results remain unchanged from these preliminary results, we will instruct U.S. Customs and Border Protection to assign entries of subject merchandise exported by Huahui Environmental the AD cash deposit rate applicable to Ningxia Huahui (i.e., 0.65 U.S. dollars/kilogram). Commerce will issue its final results of the review in accordance with the time limits set forth in 19 CFR 351.216(e).

Public Comment

Pursuant to 19 CFR 351.310(c), any interested party may request a hearing within 14 days of publication of this notice.¹² In accordance with 19 CFR 351.309(c)(1)(ii), interested parties may submit case briefs not later than 14 days after the date of publication of this notice.¹³ Rebuttal briefs, limited to issues raised in the case briefs, may be filed no later than seven days after the deadline for case briefs, in accordance with 19 CFR 351.309(d).¹⁴ Parties who submit case or rebuttal briefs are encouraged to submit with each argument: (1) A statement of the issue; (2) a brief summary of the argument; and (3) a table of authorities.¹⁵ All comments are to be filed electronically using ACCESS, available to registered users at https://access.trade.gov, and must also be served on interested parties. An electronically filed document must be received successfully in its entirety by ACCESS by 5:00 p.m. Eastern Time on the day it is due.¹⁶ Note that Commerce has temporarily modified certain requirements for serving documents containing business proprietary information, until further notice.¹⁷

¹² Commerce is exercising its discretion under 19 CFR 351.310(c) to alter the time limit for requesting a hearing.

¹³ Commerce is exercising its discretion under 19 CFR 351.309(c)(1)(ii) to alter the time limit for the filing of case briefs.

¹⁴ See Temporary Rule Modifying AD/CVD Service Requirements Due to COVID-19, 85 FR 17006, 17007 (March 26, 2020).

¹⁵ See 19 CFR 351.309(c)(2).

¹⁶ See 19 CFR 351.303(b).

¹⁷ See Temporary Rule Modifying AD/CVD Service Requirements Due to COVID-19; Extension of Effective Period, 85 FR 41363 (July 10, 2020).

Consistent with 19 CFR 351.216(e), Commerce will issue the final results of this CCR no later than 270 days after the date on which this review was initiated, or within 45 days of publication of these preliminary results, if all parties agree to the preliminary finding.

Notification to Interested Parties

This notice is published in accordance with sections 751(b)(1) and 777(i) of the Act and 19 CFR 351.216(b), and 351.221(c)(3)(ii).

Dated: October 1, 2021.
Christian Marsh,
Acting Assistant Secretary for Enforcement and Compliance.

Appendix

List of Topics Discussed in the Preliminary Decision Memorandum

I. Summary

II. Background

III. Scope of the Order

IV. Successor-in-Interest Determination

V. Recommendation

[FR Doc. 2021-22052 Filed 10-7-21; 8:45 am]

BILLING CODE 3510-DS-P